DEPARTMENT OF COMMERCE

National Oceanic and Atmospheric Administration

RIN 0648-XV01

Fisheries of the South Atlantic; South Atlantic Fishery Management Council; Public Meeting

AGENCY: National Marine Fisheries Service (NMFS), National Oceanic and Atmospheric Administration (NOAA), Commerce.

ACTION: Notice of a public meeting of Wreckfish Shareholders for the South Atlantic region to discuss draft Amendment 20 to the Snapper Grouper Fishery Management Plan (FMP) which considers changes to the Wreckfish Individual Fishing Quota (IFQ) program.

SUMMARY: The South Atlantic Fishery Management Council will hold a meeting of Wreckfish Shareholders for the South Atlantic region. See SUPPLEMENTARY INFORMATION.

DATES: The meeting will take place March 29-30, 2010. The meeting will be held from 1 p.m. until 5 p.m. on March 29, 2010 and 8:30 a.m. until 12 noon on March 30, 2010.

ADDRESSES: The meeting will be held at the office of the South Atlantic Fishery Management Council, 4055 Faber Place Drive, Suite 201, North Charleston, SC 29405; telephone: (843) 571-4366 or toll free (866) SAFMC-10; fax: (843) 769-4520. Persons interested in listening to the discussions may call (877) 774-6707, PIN # 294.

FOR FURTHER INFORMATION CONTACT: Kim Iverson, Public Information Officer, South Atlantic Fishery Management Council, 4055 Faber Place Drive, Suite 201, North Charleston, SC 29405; telephone: (843) 571-4366 or toll free: (866) SAFMC-10; fax: (843) 769-4520; email: kim.iverson@safmc.net.

SUPPLEMENTARY INFORMATION: The meeting is being convened to gather input from Wreckfish Shareholders on changes the Council is considering for the current ITQ program in Amendment 20 to the Snapper Grouper FMP. Some of the changes considered include implementing a cost recovery program, re-issuing unused quota, and implementing an Annual Catch Limit (ACL) for the wreckfish stock.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for auxiliary aids should be directed to the council office (see ADDRESSES) 3 days prior to the meetings.

Note: The times and sequence specified in this agenda are subject to change.

Dated: March 5, 2010.
William D. Chappell,
Acting Director, Office of Sustainable Fisheries, National Marine Fisheries Service.

[FR Doc. 2010-5088 Filed 3-9-10; 8:45 am]

BILLING CODE 3510-22-S